NATIONAL SCIENCE FOUNDATION

Sunshine Act Meetings

Federal Register CITATION OF PREVIOUS ANNOUNCEMENT: The meeting was noticed on November 28, 2023, at 88 FR 83164-65.

PREVIOUSLY ANNOUNCED TIME AND DATE OF THE MEETING: Wednesday, November 29, 2023, from 10:00 a.m.-5:20 p.m. and Thursday, November 30, 2023, from 8:30 a.m.-2:05 p.m. Eastern.

CHANGES IN THE MEETING: There are changes to two sessions on Wednesday, November 29, and one session on Thursday, November 30, 2023.

November 29, 2023

Original

Closed Session: 2:55-4:35 p.m.

• NSF SAHPR Update

• SAHPR-related Statement and Discussion with NSB

• Vote to move into Executive Plenary Closed

Closed (Executive) Session: 4:35-5:20 p.m.

• NSB/NSF Discussion of SAHPR-related Statement

Updated

Closed Session: 2:55-4:50 p.m.

• NSF SAHPR Update

• SAHPR-related Statements and Discussion with NSB

• Vote to move into Executive Plenary Closed

Closed (Executive) Session: 4:50-5:30 p.m.

• NSB/NSF Discussion of SAHPR-related Statements

November 30, 2023

Original

Open Session: 8:30-9:50 a.m.

• NSB Chair's Opening Remarks

• Presentation and Discussion, Office of the Chief Diversity and Inclusion Officer, Charles Barber

• NSB Committee Reports

○ Committee on Awards and Facilities Next Generation Very Large Array

○ Committee on Oversight

○ NSB-NSF Commission on Merit Review

Updated

Open Session: 9:15-9:50 a.m.

• NSB Chair's Opening Remarks

• NSB Committee Reports

○ Committee on Awards and Facilities Next Generation Very Large Array

○ Committee on Oversight

○ NSB-NSF Commission on Merit Review

CONTACT PERSON FOR MORE INFORMATION: Point of contact for this meeting is: Chris Blair, cblair@nsf.gov, 703/292-7000.

Ann E. Bushmiller,
Senior Legal Counsel to the National Science Board.

[FR Doc. 2023-26549 Filed 11-29-23; 4:15 pm]

BILLING CODE 7555-01-P